DEPARTMENT OF COMMERCE

National Oceanic and Atmospheric Administration

RIN 0648-XA840

Marine Mammals; File No. 16479

AGENCY: National Marine Fisheries Service (NMFS), National Oceanic and Atmospheric Administration (NOAA), Commerce.

ACTION: Notice; receipt of application for permit amendment.

SUMMARY: Notice is hereby given that The Pacific Whale Foundation [Responsible Party: Gregory Kaufman], 300 Maalaea Road, Suite 211, Wailuku, HI 96793, has applied for an amendment to Scientific Research Permit No. 16479-01.

DATES: Written, telefaxed, or email comments must be received on or before February 10, 2014.

ADDRESSES: The application and related documents are available for review by selecting “Records Open for Public Comment” from the Features box on the Applications and Permits for Protected Species home page, https://apps.nmfs.noaa.gov, and then selecting File No. 16479 from the list of available applications.

These documents are also available upon written request or by appointment in the following offices:

Permits and Conservation Division, Office of Protected Resources, NMFS, 1315 East-West Highway, Room 13705, Silver Spring, MD 20910; phone (301) 427-8401; fax (301) 713-0376; and

Pacific Islands Region, NMFS, 1601 Kapiolani Blvd., Rm 1110, Honolulu, HI 96814-4700; phone (808) 944-2200; fax (808) 973-2941.

Written comments on this application should be submitted to the Chief, Permits and Conservation Division, at the address listed above. Comments may also be submitted by facsimile to (301) 713-0376, or by email to NMFS.Pr1Comments@noaa.gov. Please include the File No. in the subject line of the email comment.

Those individuals requesting a public hearing should submit a written request to the Chief, Permits and Conservation Division at the address listed above. The request should set forth the specific reasons why a hearing on this application would be appropriate.

FOR FURTHER INFORMATION CONTACT: Amy Hapeman or Kristy Beard, (301) 427-8401.

SUPPLEMENTARY INFORMATION: The subject amendment to Permit No. 16479-01 is requested under the authority of the Marine Mammal Protection Act of 1972, as amended (16 U.S.C. 1361 et seq.), the regulations governing the taking and importing of marine mammals (50 CFR part 216), the Endangered Species Act of 1973, as amended (16 U.S.C. 1531 et seq.), and the regulations governing the taking, importing, and exporting of endangered and threatened species (50 CFR parts 222-226).

Permit No. 16479, issued on September 18, 2012 (77 FR 59594), authorizes the permit holder to conduct vessel-based research on humpback whales in waters around Maui, Hawaii to quantify the potential for near misses between vessels and humpback whales (Megaptera novaeangliae), and define the probability of `surprise encounters' with humpback whales. Up to 567 humpback whales may be approached annually for photo-identification and behavioral observation and up to 240 Hawaiian insular false killer whales (Pseudorca crassidens) may be incidentally harassed during research. A minor amendment (No. 01) to the permit was issued on August 23, 2013, authorizing the field season to start in December versus January of each permit year. The Permit Holder is requesting the permit be amended to authorize research activities (approaches for photo-identification and behavioral observation) on the false killer whales to study their occurrence, distribution, movement, site fidelity, abundance, social organization, home ranges, and life history. The number of takes authorized for the stock would not change. The permit expires on June 1, 2017.

In compliance with the National Environmental Policy Act of 1969 (42 U.S.C. 4321 et seq.), an initial determination has been made that the activities proposed are consistent with the Proposed Action Alternative in the Environmental Assessment (EA) on Effects of Issuing Marine Mammal Scientific Research Permit No. 16479 (NMFS 2012). Based on the analyses in the EA, NMFS determined that issuance of the permit would not significantly impact the quality of the human environment and that preparation of an environmental impact statement was not required. That determination is documented in a Finding of No Significant Impact (FONSI), signed on September 17, 2012. That EA and FONSI are available upon request. A new FONSI will be prepared for this action.

Concurrent with the publication of this notice in the Federal Register, NMFS is forwarding copies of this application to the Marine Mammal Commission and its Committee of Scientific Advisors.

Dated: January 7, 2014.
P. Michael Payne,
Chief, Permits and Conservation Division, Office of Protected Resources, National Marine Fisheries Service.

[FR Doc. 2014-00228 Filed 1-9-14; 8:45 am]

BILLING CODE 3510-22-P